POSTAL SERVICE

39 CFR Part 111

Use of Ancillary Service Endorsement for Mailing Certain Types of Checks

AGENCY: Postal Service.

ACTION: Proposed rule.

SUMMARY: This proposed rule would amend the Domestic Mail Manual (DMM) to require an endorsement requesting forwarding or return on certain mailpieces containing checks sent at Standard Mail postage rates, including “convenience” and “balance transfer” checks.

DATES: Written comments must be received on or before November 26, 2004.

ADDRESSES: Written comments should be mailed or delivered to the Manager, Mailing Standards, United States Postal Service, 475 L'Enfant Plaza, SW., Rm 3436, Washington DC 20260-3436. Copies of all written comments will be available for inspection and photocopying at USPS Headquarters Library, 475 L'Enfant Plaza, SW., 11th Floor N, Washington DC, between 9 a.m. and 4 p.m., Monday through Friday. Comments may not be submitted via fax or e-mail.

FOR FURTHER INFORMATION CONTACT: William Chatfield, Mailing Standards, United States Postal Service, 202-268-7278.

SUPPLEMENTARY INFORMATION: The Postal Service has observed an increased amount of mail containing checks, including “convenience” and “balance transfer” checks. For instance, a common marketing tool is to include convenience checks with credit card-related mailings to encourage addressees to complete a check for cash, with the amount added to the credit card balance. Financial institutions also are using balance transfer checks to encourage addressees to transfer balances from competitor credit cards to the mailer's credit card. In many cases, these mailpieces are not requested by the addressee. In addition, other checks are sent through the mail. For example, check vendors and producers mail new books of blank checks to fulfill orders from their customers.

The secure carriage of our customers' correspondence is a paramount consideration for the Postal Service. This consideration is particularly important when we are entrusted with mailings containing checks. The security of mailpieces containing checks is enhanced by ensuring that they are, if undeliverable as addressed, either forwarded to the addressee's new address or returned to the sender.

Mail entered as First-Class Mail receives forwarding and return service if undeliverable as originally addressed. Many mailings that contain checks are required, due to the nature of their contents, to be entered as First-Class Mail. Other mailings that contain checks, even though eligible for Standard Mail rates, are entered as First-Class Mail, which expedites handling and ensures the forwarding or return of undeliverable pieces. However, some mailings that contain checks eligible for Standard Mail rates are mailed at those rates.

Under the proposal, certain checks not required to be entered as First-Class Mail may be sent as Standard Mail only if the mailpiece bears an ancillary service endorsement resulting in the forwarding or return of undeliverable mailpieces. The use of such endorsements is a low-cost solution for mailers, particularly those who maintain updated address lists, since these endorsements require the payment of fees or additional postage only for mail that is undeliverable as addressed.

Endorsements satisfying the proposed standard would include “Return Service Requested,” “Address Service Requested,” and “Forwarding Service Requested” or, for authorized users of bulk parcel return service, “Return Service Requested—BPRS” or “Address Service Requested—BPRS.” Mailpieces required to bear one of these endorsements would be those with checks drawn on an account of a party other than the mailer or mailer's agent, whether or not the checks are blank. An endorsement would not be required on mailpieces containing rebate, refund, and similar checks that are drawn on the mailer's account, whether or not they are mailed as Standard Mail.

Implementation Schedule

If the proposal is adopted, the Postal Service intends to defer implementation until June 1, 2005. This delayed implementation date would give customers adequate time to budget and plan for future mailings.

Although exempt from the notice and comment requirements of the Administrative Procedure Act (5 U.S.C. 553(b),(c)) regarding proposed rulemaking by 39 U.S.C. 410(a), the Postal Service invites comments on the following proposed revisions to the Domestic Mail Manual (DMM), which is incorporated by reference in the Code of Federal Regulations (CFR). See 39 CFR part 111.

List of Subjects in 39 CFR Part 111

Administrative practice and procedure, Postal Service.

PART 111—[AMENDED]

1. The authority citation for 39 CFR part 111 continues to read as follows:

Authority: 5 U.S.C. 552(a); 39 U.S.C. 101, 401, 403, 404, 414, 3001-3011, 3201-3219, 3403-3406, 3621, 3626, 5001.

2. Revise the following sections of the Domestic Mail Manual (DMM) as set forth below:

E Eligibility

* * * * *

E600 Standard Mail

E610 Basic Standards

* * * * *

2.0 CONTENT

* * * * *

[Add new 2.4 to read as follows:]

2.4 Checks

Checks that are drawn (or intended to be drawn) on an account of a party other than the mailer or mailer's agent and that are not required to be entered as First-Class Mail may be sent as Standard Mail only when the envelope or container bears one of the following ancillary service endorsements: “Return Service Requested,” “Address Service Requested,” or “Forwarding Service Requested.” Mailers authorized to use bulk parcel return service to mail Standard Mail machinable parcels must use the endorsement “Return Service Requested—BPRS” or “Address Service Requested—BPRS.” These provisions apply to all mailpieces containing such checks, whether blank or with some or all of the fields completed.

* * * * *

We will publish an appropriate amendment to 39 CFR part 111 if the proposal is adopted.

Neva R. Watson,
Attorney, Legislative.

[FR Doc. 04-23647 Filed 10-26-04; 8:45 am]

BILLING CODE 7710-12-P